DEPARTMENT OF ENERGY

Federal Energy Regulatory Commission

[Project No. 14063-000]

Amnor Hydro West Inc.; Notice of Preliminary Permit Application Accepted for Filing and Soliciting Comments, Motions To Intervene, and Competing Applications

On January 24, 2011, and supplemented on April 25, 2011, May 3, 2011, July 6, 2011, and August 6, 2011, Amnor Hydro West Inc. (Amnor or applicant) filed an application for a preliminary permit, pursuant to section 4(f) of the Federal Power Act (FPA), proposing to study the feasibility of constructing the Hiram M. Chittenden Lock and Dam Hydroelectric Project (Hiram Dam Project or project) located at the Hiram M. Chittenden Lock and Dam facility owned and operated by the U.S. Army Corps of Engineers (Corps). The project would be located on Salmon Bay near Seattle in King County, Washington. The sole purpose of a preliminary permit, if issued, is to grant the permit holder priority to file a license application during the permit term. A preliminary permit does not authorize the permit holder to perform any land-disturbing activities or otherwise enter upon lands or waters owned by others without the owners' express permission.

The proposed project would include: (1) Three new intake structures and a new powerhouse integral with three of the six gates of the Corps' lock and dam facility; (2) three new axial turbine/generator units with a combined capacity of 5 megawatts with a design head of 26 feet; (3) a new tailrace exhaust apron returning flows to Salmon Bay; (4) a new 14.7-kilovolt, 100-foot-long transmission line from the powerhouse south to a proposed substation; and (5) appurtenant facilities. The estimated annual generation of the project would be 17.3 gigawatt-hours.

Applicant Contact: Mr. Adam T. Supronik, 42 Pearsall Street, Staten Island, New York 10305; phone: (347) 415-9600.

FERC Contact: Patrick Murphy; phone: (202) 502-8755.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14063-000) in the docket number field to access the document. For assistance, contact FERC Online Support.

Dated: August 26, 2011.
Kimberly D. Bose,
Secretary.

[FR Doc. 2011-22520 Filed 9-1-11; 8:45 am]

BILLING CODE 6717-01-P